NUCLEAR REGULATORY COMMISSION

[Docket No. 70-7004-ML, ASLBP No. 05-838-01-ML]

Atomic Safety and Licensing Board, Before Administrative Judges: Lawrence G. McDade, Chairman, Dr. Peter S. Lam, Dr. Richard E. Wardwell; In the Matter of USEC, Inc. (American Centrifuge Plant); Notice of Opportunity To Make Oral or Written Limited Appearance Statements

October 31, 2006.

This proceeding involves the application of USEC, Inc. (USEC) for authorization to construct a facility and to possess and use source, byproduct, and special nuclear material in order to enrich natural uranium to a maximum of ten percent uranium-235 (U²³⁵) by the gas centrifuge process. USEC proposes to do this at a facility—denominated the American Centrifuge Plant (ACP)—to be constructed near Piketon, Ohio.

More specifically, on August 23, 2004, USEC filed an application with the Nuclear Regulatory Commission (NRC) to obtain a thirty-year license under 10 CFR Parts 30, 40, and 70 to operate its proposed ACP. Thereafter a public interest group, the Portsmouth/Piketon Residents for Environmental Safety and Security (PRESS) and an individual, Geoffrey Sea (Sea), filed petitions to intervene. Based on the pleadings submitted, and after hearing argument from the putative intervenors, this Board determined that neither Petitioner had presented an admissible contention. LBP-05-28, 62 NRC 585 (2005). Both PRESS and Sea appealed the Board's Order and, on April 3, 2006, the Commission affirmed the Board's rulings as to both Petitioners. CLI-06-09, 63 NRC 433 (2006); CLI-06-10, 63 NRC 451 (2006). Therefore, the only matter remaining before this Board is satisfaction of the Mandatory Hearing requirement with regard to USEC's License Application (LA). 42 U.S.C. 2243(b)(1); 10 CFR 70.23a, 70.31(e).

This Atomic Safety and Licensing Board hereby gives notice that, in accordance with 10 CFR 2.315(a), the Board will entertain oral limited appearance statements from members of the public in connection with this proceeding at the date, time, and location specified below.

A. Date, Time, and Location of Oral Limited Appearance Statement Session

The session will be held on the following date at the specified location and time:

Date: Tuesday, December 12, 2006.

Time: 6 p.m. EST until 9 p.m. EST.

Location: Ohio State University Endeavor Center, Training Room 160, 1862 Shyville Road, Piketon, Ohio 45661.

B. Participation Guidelines for Oral Limited Appearance Statements

Any person not a party, or the representative of a party, to the proceeding will be permitted to make an oral statement setting forth his or her position on matters of concern relating to this proceeding. Although these statements do not constitute testimony or evidence in the proceeding, they nonetheless help the Board and/or the parties in their consideration of the issues.

Oral limited appearance statements will be entertained during the hours specified above, or such lesser time as might be necessary to accommodate the speakers who are present. In this regard, if all scheduled and unscheduled speakers present at the session have made a presentation, the Licensing Board reserves the right to terminate the session before the ending time listed above. During the limited appearance session no signs or banners will be permitted in the room.

In order to allow all interested persons an opportunity to address the Board, the time allotted for each statement normally will be no more than five (5) minutes, but may be limited, or expanded, depending on the number of written requests to make oral statements that are submitted in accordance with Section C below, and/or the number of persons present at the designated time. At the outset of each statement, the speaker should identify himself or herself by stating their name, city and state of residence, and stating whether they have any affiliation (such as employment, consultancy, or membership) with any of the parties (USEC or the NRC).

C. Submitting a Request To Make an Oral Limited Appearance Statement

Persons wishing to make an oral statement who have submitted a timely written request to do so will be given priority over those who have not filed such a request. To be considered timely, a written request to make an oral statement must either be mailed, faxed, or sent by e-mail so as to be received by 5 p.m. EST on December 5, 2006. Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge Lawrence G. McDade, c/o: Debra Wolf, Esq. Law Clerk, Atomic Safety and Licensing Board Panel, Mail Stop T-3 F23, U.S. Nuclear Regulatory Commission, Washington, DC 20555-0001.

Fax: (301) 415-5599 (verification (301) 415-6094).

Email: daw1@nrc.gov.

D. Submitted Written Limited Appearance Statements

A written limited appearance statement may be submitted to the Board regarding this proceeding at any time, either in lieu of or in addition to any oral statement. Such statements should be sent to the Office of the Secretary using the methods prescribed above, with a copy to the Licensing Board Chairman.

E. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (Electronic Reading Room). Persons who do not have access to ADAMS or who encounter problems in accessing the documents located in ADAMS should contact the NRC PDR reference staff by telephone at (800) 397-4209 or (301) 415-4737, or by e-mail to pdr@nrc.gov.

F. Scheduling Information Updates

Updated/revised scheduling information regarding the limited appearance session can be found on the NRC Web site at http://www.nrc.gov/public-involve/public-meetings/index.cfm or by calling (800) 368-5642, extension 5036, or (301) 415-5036.

Dated: October 31, 2006.
For the Atomic Safety and Licensing Board.¹
¹ Copies of this Notice were sent this date by Internet electronic mail transmission to counsel for (1) USEC; and (2) the NRC Staff.
Lawrence G. McDade, Chairman
Administrative Judge.

[FR Doc. 06-9076 Filed 11-3-06; 8:45 am]

BILLING CODE 7590-01-P